DEPARTMENT OF HOMELAND SECURITY

Coast Guard

[Docket No. USCG-2009-0581]

Certificate of Alternative Compliance for the Lift Boat PAUL

AGENCY: Coast Guard, DHS.

ACTION: Notice.

SUMMARY: The Coast Guard announces that a Certificate of Alternative Compliance was issued for the lift boat PAUL as required by 33 U.S.C. 1605(c) and 33 CFR 81.18.

DATES: The Certificate of Alternate Compliance was issued on June 12, 2009.

ADDRESSES: The docket for this notice is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2009-0581 in the “Keyword” box, and then clicking “Search.”

FOR FURTHER INFORMATION CONTACT: If you have questions on this notice, call CWO2 David Mauldin, District Eight, Prevention Branch, U.S. Coast Guard, telephone 504-671-2153. If you have questions on viewing or submitting material to the docket, call Renee V. Wright, Program Manager, Docket Operations, telephone 202-366-9826.

SUPPLEMENTARY INFORMATION:

Background and Purpose

The lift boat PAUL will be used for oil exploration. The Certificate of Alternative Compliance allows for the horizontal distance between the stem of the vessel and masthead light to be 108′. Placing the masthead light at the horizontal distance from the stem of the vessel as required by Annex I, paragraph 3(d) of the 72 COLREGS, and Annex I, Section 84.05(d) of the Inland Rules Act, would result in a masthead light location that would interfere with crane operations. In addition, the sidelights may be located on the outermost edges of the top of the pilothouse, 7′ 6″ from the centerline. Placing the sidelights in the locations required by Annex I, paragraph 3(b) of 72 COLREGS, and Annex I, paragraph 84.05(b) of the Inland Rules Act would expose the sidelights to probable damage from the working machinery around the forward legs of the vessel.

The Certificate of Alternative Compliance allows for the horizontal separation of the masthead light from the stem of the vessel to deviate from the requirements of Annex I, paragraph 3(d) of 72 COLREGS, and Annex I, Section 84.05(d) of the Inland Rules Act. In addition, this Certificate of Alternative Compliance allows for the placement of the side lights to deviate from requirements set forth in Annex I, paragraph 3(b) of 72 COLREGS, and Annex I, paragraph 84.05(b) of the Inland Rules Act.

This notice is issued under authority of 33 U.S.C. 1605(c) and 33 CFR 81.18.

Dated: July 27, 2009.
J.W. Johnson,
Commander, U.S. Coast Guard, Chief, Inspections and Investigations Branch, By Direction of the Commander Eighth Coast Guard District.

[FR Doc. E9-19394 Filed 8-12-09; 8:45 am]

BILLING CODE 4910-15-P